DEPARTMENT OF LABOR

Occupational Safety and Health Administration

29 CFR Part 1926

[Docket No. S-777]

RIN 1218-AB36

Ergonomics Program

AGENCY: Occupational Safety and Health Administration (OSHA), U.S. Department of Labor.

ACTION: Proposed rule; dates and location of continuation of informal public hearing.

SUMMARY: The Occupational Safety and Health Administration (OSHA) is providing additional information concerning the dates and locations of the informal public hearing being held as part of the rulemaking on OSHA's proposed Ergonomics Program Standard, published in the Federal Register on November 23, 1999 (64 FR 65768).

DATES: Informal Public Hearing: The hearing in Washington, DC, will begin at 9:30 a.m., March 13, 2000, and is scheduled to run through April 7, 2000. The hearing will continue in Chicago, Illinois from April 11, beginning at 8:30 a.m., and will run through April 21, 2000, and in Portland, Oregon from April 24, beginning at 8:30 a.m., and continuing through May 3, 2000.

Notice of Intention To Appear at the Informal Public Hearing: Notices of intention appear at the informal public hearing were required to have been postmarked by January 24, 2000. If the scheduling of the hearing in Portland makes it necessary for you to change your requested hearing location or to substitute a witness, you may do so by submitting an amendment to your notice of intention to appear, postmarked no later than March 3, 2000, to Ms. Veneta Chatmon at the address listed below.

ADDRESSES: Informal Public Hearing: The informal public hearing to be held in Washington, DC, will be located in the Frances Perkins Building, U.S. Department of Labor, 200 Constitution Avenue, N.W., Washington, DC 20210. The hearing will continue in Chicago, Illinois at the State of Illinois Building, James R. Thompson Center (Assembly Hall), 100 West Randolph Street, from April 11-21, 2000, and in Portland, Oregon at the Mark Hatfield Federal Court House, 1000 Southwest 3rd Avenue, from April 24 through May 3, 2000.

Amended Notices of Intention To Appear: Mail: If the scheduling of the hearing in Portland makes it necessary for you to change your requested hearing location or to substitute a witness, you may do so by submitting an amendment to your notice of intention to appear at the informal public hearing. The amendment must be postmarked by March 3, 2000, and be sent to: Ms. Veneta Chatmon, OSHA Office of Public Affairs, Docket No. S-777, U.S. Department of Labor, 200 Constitution Avenue, N.W., Room N-3647, Washington, DC 20210. Telephone: (202) 693-2119.

Facsimile: You may fax your amendment to your notice of intention to appear to Ms. Chatmon at (202) 693-1634, no later than March 3, 2000.

Electronic: You may also submit your amendment to your notice of intention to appear electronically through OSHA's Homepage at www.osha.gov. no later than March 3, 2000.

FOR FURTHER INFORMATION CONTACT: OSHA's Ergonomics Team at (202) 693-2116, or visit the OSHA Homepage at www.osha.gov.

Authority: This document was prepared under the direction of Charles N. Jeffress, Assistant Secretary of Labor for Occupational Safety and Health, U.S. Department of Labor, 200 Constitution Avenue, N.W., Washington, DC 20210. It is issued under sections 4, 6, and 8 of the Occupational Safety and Health Act of 1970 (29 U.S.C. 653, 655, 657), Secretary of Labor's Order No. 6-96 (62 FR 111), and 29 CFR part 1911.

Signed at Washington, D.C., this 22d day of February, 2000.
Charles N. Jeffress,
Assistant Secretary of Labor for Occupational Safety and Health.

[FR Doc. 00-4515 Filed 2-24-00; 8:45 am]

BILLING CODE 4510-26-M